DEPARTMENT OF HEALTH AND HUMAN SERVICES

Health Resources and Services Administration

Notice of Availability of Draft Policy Document for Comment

AGENCY: Health Resources and Services Administration (HRSA), HHS.

ACTION: The Federal Tort Claims Act (FTCA) Policy Manual was developed to serve as the primary policy source for information on FTCA for Health Center Program grantees funded under section 330 of the Public Health Service (PHS) Act (“section 330”). The Policy Manual is currently posted on the Internet at http://bphc.hrsa.gov/draftsforcomment/ftcamanual/.

DATES: Comments must be received by August 6, 2010.

ADDRESSES: Comments should be submitted to OPPDGeneral@hrsa.gov by close of business on August 6, 2010.

SUMMARY: HRSA believes that community input is valuable to the development of policies and policy documents related to the implementation of HRSA programs, including the Health Center Program. Therefore, we are requesting comments on the FTCA Policy Manual referenced above. Comments will be reviewed and analyzed, and a summary and general response to comments will be published as soon as possible after the comment submission deadline.

BACKGROUND: HRSA administers the Health Center Program, which supports more than 1,100 organizations operating almost 8,000 health care delivery sites, including community health centers, migrant health centers, health care for the homeless centers, and public housing primary care centers. Health centers serve medically underserved communities delivering preventive and primary care services to patients regardless of their ability to pay.

Health Center Program grantees funded under section 330 of the PHS Act, including Community Health Centers, Migrant Health Centers, Health Care for the Homeless Health Centers, and Public Housing Primary Care Health Centers, have access to medical malpractice coverage under the Federal Tort Claims Act (FTCA). FTCA, enacted in 1946, is the legal mechanism for compensating people who have suffered personal injury due to the negligent or wrongful action of employees of the U.S. Government. Under section 224 of the PHS Act, as amended by the Federally Supported Health Centers Assistance Act (FSHCAA) of 1992 and 1995, a section 330-funded health center, as well as its officers, directors, employees, and certain contractors, may be considered deemed to be Federal employees for the purpose of medical malpractice coverage under the FTCA. As such, they are immune from personal liability for claims of medical malpractice arising from their deemed employment, contract for services, or duties as an officer or director of the deemed health center. FSHCAA requires health centers to apply for deemed status in order for FTCA coverage to be effective.

HRSA has issued numerous Program Information Notices (PINs) and Program Assistance Letters (PALs) related to the Health Center FTCA Medical Malpractice Program. HRSA consolidated these PINs and PALs to create this FTCA Policy Manual. It is intended to convey guidance regarding existing policy and current processes, and to serve as the principal policy resource on FTCA matters for Health Center Program grantees and related stakeholders. It will be updated as new policy and program guidance are issued.

FOR FURTHER INFORMATION CONTACT: For questions regarding this notice, please contact the HRSA Bureau of Primary Health Care, Office of Quality and Data, at 301-594-0818.

Dated: June 24, 2010.
Mary K. Wakefield,
Administrator.

[FR Doc. 2010-15971 Filed 6-30-10; 8:45 am]

BILLING CODE 4165-15-P